DEPARTMENT OF COMMERCE

National Oceanic and Atmospheric Administration

[RTID 0648-XW021]

U.S. Stakeholder Call To Discuss Inter-American Tropical Tuna Commission Tropical Tuna Management; Meeting Announcement

AGENCY: National Marine Fisheries Service (NMFS), National Oceanic and Atmospheric Administration (NOAA), Commerce.

ACTION: Notice of public meeting.

SUMMARY: NMFS announces a public meeting with U.S. stakeholders to discuss issues related to Inter-American Tropical Tuna Commission (IATTC) tropical tuna management in the eastern Pacific Ocean on May 22, 2020. The meeting topics are described under the SUPPLEMENTARY INFORMATION section of this notice. The meeting will be held via conference call.

DATES: The meeting will be held via conference call on May 22, 2020, from 11 a.m. to 1 p.m. PST (or until business is concluded).

ADDRESSES: The public meeting will be conducted via conference call. For details on how to call in to the conference line, please contact William Stahnke (see FOR FURTHER INFORMATION CONTACT) by April 27, 2020. Documents to be considered before the call will be sent out via email in advance of the conference call. Please submit contact information to William Stahnke to receive documents in advance of the call.

FOR FURTHER INFORMATION CONTACT: William Stahnke, West Coast Region, NMFS, at William.Stahnke@noaa.gov, or at (562) 980-4088.

SUPPLEMENTARY INFORMATION: The current IATTC conservation measures for tropical tuna in the eastern Pacific Ocean in Resolution C-17-02 (“Conservation Measures for Tropical Tunas in the Eastern Pacific Ocean During 2018-2020 and Amendment to Resolution C-17-01”) are set to expire at the end of the 2020 calendar year. Therefore, conservation measures for tropical tuna are expected to be a central issue at the 95th meeting of the IATTC that will be held from August 10 to August 14, 2020, in La Jolla, California. This call will provide NMFS an additional opportunity to hear public input on tropical tuna management in the IATTC after stock assessment information is presented at the IATTC Scientific Advisory Committee (SAC) in May 2020 and in advance of the General Advisory Committee (GAC) meeting on June 18, 2020. In accordance with the Tuna Conventions Act (16 U.S.C. 951 et seq.), the GAC advises the U.S. Section with respect to U.S. participation in the work of the IATTC, focusing on the development of U.S. policies, positions, and negotiating tactics. For more information on IATTC meetings, please visit the IATTC's website: https://www.iattc.org/MeetingsENG.htm.

Meeting Topics

The agenda for conference call will include, but is not limited to, the topics below:

1. Review results of stock assessments for bigeye, yellowfin, and skipjack tuna in the eastern Pacific Ocean that are presented at the IATTC SAC meeting in May 2020;

2. Review analyses for tropical tuna presented at the IATTC SAC meeting;

3. Review management options for tropical tuna presented at the IATTC SAC meeting;

4. Opportunity for stakeholder input on potential tropical tuna management options; and

5. Next steps and other opportunities for stakeholder input at the GAC meeting.

Special Accommodations

The conference call is accessible to people with disabilities. Requests for sign language interpretation or other auxiliary aids should be directed to William Stahnke (see FOR FURTHER INFORMATION CONTACT) by April 27, 2020.

Authority: 16 U.S.C. 951 et seq.

Date: March 2, 2020.
Karyl K. Brewster-Geisz,
Acting Director, Office of Sustainable Fisheries, National Marine Fisheries Service.

[FR Doc. 2020-04495 Filed 3-4-20; 8:45 am]

BILLING CODE 3510-22-P